DEPARTMENT OF HEALTH AND HUMAN SERVICES

National Institutes of Health

National Institute on Alcohol Abuse and Alcoholism; Amended Notice of Meeting

Notice is hereby given of a change in the meeting of the Clinical and Treatment Subcommittee, October 28, 2004, 8 a.m. to October 29, 2004, 4 p.m., Double Tree Rockville, 1750 Rockville Pike, Rockville, MD 20852 which was published in the Federal Register on October 24, 2004, V.69, 185, P.57328.

The meeting will be held at the Bethesda Marriott, 5151 Pooks Hill Road, Bethesda, MD 20814 instead of at the Doubletree Hotel. The meeting location is the only change. The meeting is closed to the public.

Dated: October 12, 2004.
LaVerne Y. Stringfield,
Director, Office of Federal Advisory Committee Policy.

[FR Doc. 04-23343 Filed 10-18-04; 8:45 am]

BILLING CODE 4140-01-M